DEPARTMENT OF ENERGY

Federal Energy Regulatory Commission

Combined Notice of Filings #2

Take notice that the Commission received the following electric rate filings:

Docket Numbers: ER17-801-009.

Applicants: Constellation Power Source Generation, LLC.

Description: Compliance filing: Informational Filing Re Notch Cliff Unit 1-4_Westport Unit 5 Deactivaton to be effective N/A.

Filed Date: 3/2/20.

Accession Number: 20200302-5258.

Comments Due: 5 p.m. ET 3/23/20.

Docket Numbers: ER19-1216-003.

Applicants: Northwest Ohio Wind, LLC.

Description: Compliance filing: Approved Offer of Settlement Effective Date to be effective 5/8/2019.

Filed Date: 3/2/20.

Accession Number: 20200302-5311.

Comments Due: 5 p.m. ET 3/23/20.

Docket Numbers: ER20-1144-000.

Applicants: Southern California Edison Company.

Description: § 205(d) Rate Filing: Letter Agreement San Jacinto Grid Project SA No. 1097 to be effective 2/20/2020.

Filed Date: 3/2/20.

Accession Number: 20200302-5238.

Comments Due: 5 p.m. ET 3/23/20.

Docket Numbers: ER20-1145-000.

Applicants: Southwest Power Pool, Inc.

Description: § 205(d) Rate Filing: 1148R27 American Electric Power NITSA and NOA to be effective 2/1/2020.

Filed Date: 3/2/20.

Accession Number: 20200302-5249.

Comments Due: 5 p.m. ET 3/23/20.

Docket Numbers: ER20-1146-000.

Applicants: Exelon Generation Company, LLC.

Description: § 205(d) Rate Filing: Reactive Service Rate Schedule Filing For Deactivation Of Units to be effective 6/1/2020.

Filed Date: 3/2/20.

Accession Number: 20200302-5254.

Comments Due: 5 p.m. ET 3/23/20.

Docket Numbers: ER20-1148-000.

Applicants: American Transmission Systems, Incorporated, The Cleveland Electric Illuminating Company, Ohio Edison Company, Pennsylvania Power Company, The Toledo Edison Company, PJM Interconnection, L.L.C.

Description: § 205(d) Rate Filing: FirstEnergy submits on behalf of ATSI et al. OIA, SA No. 2853 to be effective 5/1/2020.

Filed Date: 3/2/20.

Accession Number: 20200302-5291.

Comments Due: 5 p.m. ET 3/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2020.
Nathaniel J. Davis, Sr.,
Deputy Secretary.

[FR Doc. 2020-04618 Filed 3-5-20; 8:45 am]

BILLING CODE 6717-01-P